DEPARTMENT OF DEFENSE

Department of the Army, Corps of Engineers

Notice of Intent To Prepare an Environmental Impact Statement and Conduct Scoping Meeting for the Redwood City Harbor Navigation Improvement Feasibility Study and Integrated EIS/EIR Redwood City and County of San Mateo, CA (SPN-2014-125242)

AGENCY: Department of the Army, U.S. Army Corps of Engineers, DoD.

ACTION: Notice of intent.

SUMMARY: The purpose of this notice is to initiate the scoping process for the preparation of an integrated Feasibility Report and Environmental Impact Statement/Environmental Impact Report for proposed improvements to the existing navigation project at Redwood City Harbor and San Bruno Shoal.

DATES: A public scoping meeting will be held on December 10, 2014 at 7:00 p.m. (PST). Submit comments concerning this notice on or before December 15, 2014.

ADDRESSES: The scoping meeting location is: the Redwood City Hall, 1017 Middlefield Road, Redwood City, CA 94063. Meeting will be held at the City Council Chamber Meeting Room. Mail written comments concerning this notice to: U.S. Army Corps of Engineers, San Francisco District, Project Management Division, ATTN: SPN-2014-125242, 1455 Market Street, San Francisco, CA 94103-1398. Comment letters should include the commenter's physical mailing address, the project title and the Corps file number in the subject line.

FOR FURTHER INFORMATION CONTACT: Katherine Reyes, U.S. Army Corps of Engineers, San Francisco District, Project Management Division, ATTN: CESPN-PM-B, 1455 Market Street, San Francisco CA 94103-1398, (415) 503-6847, katherine.m.reyes@usace.army.mil.

SUPPLEMENTARY INFORMATION: In accordance with the National Environmental Policy Act (NEPA), the U.S. Army Corps of Engineers intends to prepare an Environmental Impact Statement (EIS). The primary Federal actions under consideration are dredging, channel realignment, dredged material placement, and transport of dredged material for the purpose of ocean placement.

Pursuant to the California Environmental Quality Act (CEQA) the Port of Redwood City will serve as Lead Agency in preparing an Environmental Impact Report (EIR). The Corps and the Port of Redwood City have agreed to jointly prepare a Draft EIS/EIR to optimize efficiency and avoid duplication. The Draft EIS/EIR is intended to be sufficient in scope to address the Federal, state and local requirements and environmental issues concerning the proposed activities and permit approvals.

Project Site and Background Information: The project site is located at Redwood City Harbor (RWC), and San Francisco Bay, CA. The harbor is located in San Mateo County, on the southwest side of San Francisco Bay, approximately 18 miles south of San Francisco. The project site includes the existing Federal navigation channel and turning basins at RWC, extending from the mouth of Redwood Creek to deep water in the San Francisco Bay, as well as the channel at San Bruno Shoal in San Francisco Bay. Both channels are authorized to a depth of 30 feet Mean Lower Low Water (MLLW). It is the only deep-water port in South San Francisco Bay and was completed to its present-day authorized depth in 1965. The Port of Redwood City is the local sponsor and the U.S. Army Corps of Engineers is the Federal partner. The port maintains three berth facilities at a depth of 34 feet MLLW and a small facility to unload cement and aggregates via barge. Maritime activities include the export of recycled metal and the import of dry bulk building materials such as cement, bauxite, gypsum and aggregates.

Proposed Action(s): The proposed action is to evaluate alternatives to improve the existing navigation project at RWC and San Bruno Shoal. The study is authorized by House Resolution 2511, adopted May 7, 1997 “. . . in the interest of navigation improvements and related purposes at Redwood City Harbor, California, with particular reference to providing increased depths to accommodate new, larger vessels that now call on the port.”

Issues: Potentially significant issues associated with the project may include: aesthetics/visual impacts, air quality emissions, biological resource impacts, environmental justice, geologic impacts related to seismicity, hazards and hazardous materials, hydrology and water quality, noise, traffic and transportation, and cumulative impacts from past, present and reasonably foreseeable future projects. Bair Island and Greco Island are adjacent to RWC and are within the NEPA scope of analysis due to potential project impacts. Bair Island is operated by the USFWS and is the site of an ongoing wetland restoration effort. The bay water around Bair Island and RWC is within the Don Edwards Marine Protected Area.

Alternatives: Four alternative plans will be evaluated. Alternative 1 would deepen the RWC and the San Bruno Shoal Channels. Alternative 2 would deepen the RWC and San Bruno Shoal channels and implement measures to address shoaling including, realigning the turn into RWC channel, modifying the cross section of the RWC channel entrance and/or conducting advance maintenance. Alternative 3 would address shoaling by realigning the turn into RWC channel, modifying the cross section to the RWC channel entrance and/or conducting advance maintenance. Alternative 4 would be the no-action alternative, which would include continued maintenance of the authorized Federal channels to a depth of 30 feet MLLW at RWC and San Bruno Shoal.

Six dredge material placement sites are being evaluated. Multiple sites may be used depending on the quantity of material dredged from the channels and the capacity of the placement sites. The potential dredge material placement sites include:

1. Ravenswood Pond Complex (Upland Beneficial Reuse Site).

2. Eden Landing Pond Complex (Upland Beneficial Reuse Site).

3. Alviso Pond Complex (Upland Beneficial Reuse Site).

4. SF-11 Alcatraz (In-Bay Aquatic).

5. Dumbarton Bridge—Passive Sediment Transport (In-Bay Aquatic).

6. San Francisco Deep Ocean Disposal Site (SFDODS) (Ocean Aquatic).

Scoping Process: The Corps is seeking participation and input of all interested federal, state, and local agencies, Native American groups, and other concerned private organizations or individuals on the scope of the draft EIS/EIR through this public notice. The purpose of the public scoping meeting is to solicit comments regarding the potential impacts, environmental issues, and alternatives associated with the proposed action to be considered in the draft EIS/EIR. The meeting place, date and time will be advertised in advance in local newspapers, and meeting announcement letters will be sent to interested parties. The final draft Integrated Feasibility Report and EIS/EIR is expected to be available for public review and comment in the summer of 2015 and a public meeting will be held after its publication.

Brenda S. Bowen,
Army Federal Register Liaison Officer.

[FR Doc. 2014-27787 Filed 11-24-14; 8:45 am]

BILLING CODE 3720-58-P